DEPARTMENT OF HEALTH AND HUMAN SERVICES

National Institutes of Health

National Institute on Drug Abuse; Amended Notice of Meeting

Notice is hereby given of a change in the meeting of the National Institute on Drug Abuse Special Emphasis Panel, October 17, 2013, 08:00 a.m. to October 17, 2013, 05:00 p.m., National Institutes of Health, Neuroscience Center, 6001 Executive Boulevard, Rockville, MD, 20852 which was published in the Federal Register on September 17, 2013, 78 180 FRN2013-22502.

The date, time and the location of the meeting are changed to November 22, 2013, 8:30 a.m. to November 22, 2013, 3:00 p.m., Hyatt Regency Bethesda, One Bethesda Metro Center, 7400 Wisconsin Avenue, Bethesda, MD 20814. The meeting is closed to the public.

Dated: October 25, 2013.
Michelle Trout,
Program Analyst, Office of Federal Advisory Committee Policy.

[FR Doc. 2013-25752 Filed 10-29-13; 8:45 am]

BILLING CODE 4140-01-P